DEPARTMENT OF TRANSPORTATION

Federal Aviation Administration

Index of Administrator's Decisions and Orders In Civil Penalty Actions; Publication

AGENCY: Federal Aviation Administration (FAA), DOT.

ACTION: Notice of publication.

SUMMARY: This notice constitutes the required quarterly publication of an index of the Administrator's decisions and orders in civil penalty cases. This publication represents the quarter ending on June 30, 2000. This publication ensures that the agency is in compliance with statuory indexing requirements.

FOR FURTHER INFORMATION CONTACT: James S. Dillman, Assistant Chief Counsel for Litigation (AGC-400), Federal Aviation Administration, 400 7th Street, SW., Suite PL 200-A, Washington, DC 20490; telephone (202) 366-4118.

SUPPLEMENTARY INFORMATION: The Administrative Procedure Act requires Federal agencies to maintain and make available for public inspection and copying current indexes containing identifying information regarding materials required to be made available or published. 5 U.S.C. 552(a)(2), In a notice issued on July 11, 1990, and published in the Federal Register (55 FR 29148; July 17, 1990), the FAA announced the public availability of several indexes and summaries that provide identifying information about the decisions and orders issued by the Administrator under the FAA's civil penalty assessment authority and the rules of practice governing hearings and appeals of civil penalty actions. 14 CFR Part 13, Subpart G.

The FAA maintains an index of the Administrator's decisions and orders in civil penalty actions organized by order number and containing identifying information about each decision or order. The FAA also maintains a cumulative subject-matter index and digests organized by order number. The indexes are published on a quarterly basis (i.e., January, April, July, and October.)

The FAA first published these indexes and digests for all decisions and orders issued by the Administrator through September 30, 1990. 55 FR 45984; October 31, 1990. The FAA announced in that notice that only the subject-matter index would be published cumulatively and that the order number index would be non-cumulative. The FAA announced in a later notice that the order number indexes published in January would reflect all of the civil penalty decisions for the previous year. 58 FR 4055; 1/19/93.

The previous quarterly publications of these indexes have appeared in the Federal Register as follows:

Dates of quarter | Federal Register publication
11/1/89-9/30/90 | 55 FR 45984; 10/31/90.
10/1/90-12/31/90 | 56 FR 44886; 2/6/91.
1/1/91-3/31/91 | 56 FR 20250; 5/2/91.
4/1/91-6/30/91 | 56 FR 31984; 7/12/91.
7/1/91-9/30/91 | 56 FR 51735; 10/15/91.
10/1/91-12/31/91 | 57 FR 2299; 1/21/92.
1/1/92-3/31/92 | 57 FR 12359; 4/9/92.
4/1/92-6/30/92 | 57 FR 32825; 7/23/92.
7/1/92-9/30/92 | 57 FR 48255; 10/22/92.
10/1/92-12/31/92 | 58 FR 5044; 1/19/93.
1/1/93-3/31/93 | 58 FR 21199; 4/19/93.
4/1/93-6/30/93 | 58 FR 42120; 8/6/93.
7/1/93-9/30/93 | 58 FR 58218; 10/29/93.
10/1/93-12/31/93 | 59 FR 5466; 2/4/94.
1/1/94-3/31/94 | 59 FR 22196; 4/29/94.
4/1/94-6/30/94 | 59 FR 39618; 8/3/94.
7/1/94-12/31/94 | 60 FR 4454; 1/23/95.
1/1/95-3/31/95 | 60 FR 19318; 4/17/95.
4/1/95-6/30/95 | 60 FR 36854; 7/18/95.
7/1/95-9/30/95 | 60 FR 53228; 10/12/95.
10/1/95-12/31/95 | 61 FR 1972; 1/24/96.
1/1/96-3/31/96 | 61 FR 16955; 4/18/96.
4/1/96-6/30/96 | 61 FR 37526; 7/18/96.
7/1/96-9/30/96 | 61 FR 54833; 10/22/96.
10/1/96-12/31/96 | 62 FR 2434; 1/16/97.
1/1/97-3/31/97 | 62 FR 24533; 5/2/97.
4/1/97-6/30/97 | 62 FR 38339; 7/17/97.
7/1/97-9/30/97 | 62 FR 53856; 10/16/97.
10/1/97-12/31/97 | 63 FR 3373; 1/22/98.
1/1/98-3/31/98 | 63 FR 19559; 4/20/98.
4/1/98-6/30/98 | 63 FR 37914; 7/14/98.
7/1/98-9/30/98 | 63 FR 57729; 10/28/98.
10/1/98-12/31/98 | 64 FR 1855; 1/12/99.
1/1/99-3/31/99 | 64 FR 24690; 5/7/99.
4/1/99-6/30/99 | 64 FR 43236; 8/9/99.
7/1/99-9/30/99 | 64 FR 58879; 11/1/99.
10/1/99-12/31/99 | 65 FR 1654; 1/11/00.
1/1/00-3/31/00 | 65 FR 35973; 6/6/00.

The civil penalty decisions and orders, and the indexes and digests are available in FAA offices. Also, the Administrator's civil penalty decisions have been published by commercial publishers (Hawkins Publishing Company and Clark Boardman Callaghan) and are available on computer on-line services (Westlaw, LEXIS, Compuserve and FedWorld).

A list of the addresses of the FAA offices where the civil penalty decisions may be reviewed and information regarding these commercial publications and computer databases are provided at the end of this notice. Information regarding the accessibility of materials filed in recently initiated civil penalty cases in FAA civil penalty cases at the DOT Docket and over the Internet also appears at the end of this notice.

Civil Penalty Actions—Orders Issued by the Administrator

Order Number Index

(This index includes all decisions and orders issued by the Administrator from April 1, 2000 to June 30, 2000.)

2000-8—USA Jet Airlines, Inc.

5/9/00—CP99SW0009

DMS No. FAA-1999-5783

200-9—Tundra Copters, Inc.

5/11/00—CP99AL0011

DMS No. FAA-1999-5983

2000-10—Johnny Johnson

5/11/2000—CP99SW0011

DMS No. FAA-1999-5821

2000-11—Europex, Inc.

5/11/2000—CP98EA0042

DMS No. FAA-1998-4676

2000-12—Evergreen Helicopters of Alaska, Inc.

6/8/2000—CP97AL0001

2000-13—Empire Airlines, Inc.

6/8/2000—CP98NM0011

2000-14—Warbelow's Air Ventures, Inc.

6/8/2000—CP97AL0012

Civil Penalty Actions—Orders Issued by the Administrator

Subject Matter Index

(Current as of June 30, 2000)

Administrative Law Judges—Power and Authority:
Continuance of hearing | 91-11 Continental Airlines; 92-29 Haggland.
Credibility findings | 90-21 Caroll; 92-3 Park; 93-17 Metcalf; 94-3 Valley Air; 94-4 Northwest Aircraft Rental; 95-25 Conquest; 95-26 Hereth; 97-20 Werle; 97-30 Emery Worldwide Airlines; 97-32 Florida Propeller; 98-18 General Aviation; 99-6 Squire; 2000-3 Warbelow's.
Default Judgment | 91-11 Continental Airlines; 92-47 Cornwall; 94-8 Nunez; 94-22 Harkins; 94-28 Toyota; 95-10 Diamond; 97-28 Continental Airlines; 97-33 Rawlings; 98-13 Air St. Thomas.
Discovery | 89-6 American Airlines; 91-17 KDS Aviation; 91-54 Alaska Airlines; 92-46 Sutton-Sautter; 93-10 Costello.
Expert Testimony | 94-21 Sweeney.
Granting extensions of time | 90-27 Gabbert.
Hearing location | 92-50 Cullop.
Hearing request | 93-12 Langton; 94-6 Strohl; 94-27 Larsen; 94-37 Houston; 95-19 Rayner.
Initial Decision | 92-1 Costello; 92-32 Barnhill.
Lateness of | 97-31 Sanford Air.
Should include requirement to file appeal brief | 98-5 Squire.
Jurisdiction:
Generally | 90-20 Degenhardt; 90-33 Cato; 92-1 Costello; 92-32 Barnhill.
After issuance of order assessing civil penalty | 94-37 Houston; 95-19 Rayner; 97-33 Rawlings.
When complaint is withdrawn | 94-39 Kirola.
Motion for Decision | 92-73 Wyatt; 92-75 Beck; 92-76 Safety Equipment; 93-11 Merkley; 96-24 Horizon; 98-20 Koenig.
No authority to extend due date for late Answer without showing of good cause. (See also Answer) | 95-28 Atlantic World Airways; 97-18 Robinson; 98-4 Larry's Flying Service.
Notice of Hearing | 92-31 Eaddy.
Regulate proceedings | 97-20 Werle.
Sanction | 90-37 Northwest Airlines; 91-54 Alaska Airlines; 94-22 Harkins; 94-28 Toyota.
Service of law judges by parties | 97-18 Robinson.
Vacate initial decision | 90-20 Degenhardt; 92-32 Barnhill; 95-6 Sutton.
Aerial Photography | 95-25 Conquest Helicopters.
Agency Attorney | 93-13 Medel.
Air Carrier/Aircraft Operator:
Agent/independent contractor of | 92-70 USAir; 2000-13 Empire Airlines.
Careless or Reckless | 92-48 & 92-70 USAir; 93-18 Westair Commuter.
Duty of care:
Non-delegable | 92-70 USAir; 96-16 Westair Commuter; 96-24 Horizon; 97-8 Pacific Av. d/b/a Inter-Island Helicopters; 99-12 TWA; 2000-3 Warbelow's; 2000-13 Empire Airlines.
Employee | 93-18 Westair Commuter; 97-8 Pacific Av. d/b/a Inter-Island Helicopters; 99-12 TWA; 99-14 Alika Aviation; 2000-1 Gatewood; 2000-3 Warbelow's.
Ground Security Coordinator, Failure to provide | 96-16 WestAir Commuter.
Intoxicated Passenger:
Allowing to board | 98-11 TWA.
Serving alcohol to | 98-11 TWA.
Liability for acts/omissions of employees in scope of employment | 98-11 TWA, 99-12 TWA; 99-14 Alika Aviation; 2000-1 Gatewood; 2000-3 Warbelow's.
Liability for maintenance by independent repair station | 2000-13 Empire Airlines.
Use of unqualified pilot | 99-15 Blue Ridge; 99-11 Evergreen; 2000-12 Evergreen.
Aircraft Maintenance (See also Airworthiness, Maintenance Manual):
Generally | 90-11 Thunderbird Accessories; 91-8 Watts Agricultural Aviation; 93-36 & 94-3 Valley Air; 94-38 Bohan; 95-11 Horizon; 96-3 America West Airlines; 97-8 Pacific Av. d/b/a Inter-Island Helicopters; 97-9 Alphin; 97-10 Alphin; 97-11 Hampton; 97-30 Emery Worldwide Airlines; 97-31 Sanford Air; 98-18 General Aviation; 99-5 Africa Air; 2000-1 Gatewood; 2000-3 Warbelow's; 2000-13 Empire Airlines; 2000-14 Warbelow's.
Acceptable methods, techniques, and practices | 96-3 America West Airlines.
After certificate revocation | 92-73 Wyatt.
Airworthiness Directive, compliance with | 96-18 Kilrain; 97-9 Alphin.
Approved data for major repairs | 2000-13 Empire Airlines.
Advisory Circular 43.13-1, as amended alone not approved data | 2000-13 Empire Airlines.
Approved data for one aircraft not necessarily approved for major repair of another | 2000-13 Empire Airlines.
DER | 2000-13 Empire Airlines.
Inspection | 97-18 Kilrain; 97-10 Alphin; 99-14 Alika Aviation.
Major alterations:
Failed to prove | 99-5 Africa Air.
Major/minor repairs | 96-3 America West Airlines.
Minimum Equipment List (MEL) | 94-38 Bohan; 95-11 Horizon; 97-11 Hampton; 97-21 Delta; 97-30 Emery Worldwide Airlines; 2000-3 Warbelow's.
Operation when maintenance entries not made | 2000-1 Gatewood.
Propellers | 2000-1 Gatewood.
Aircraft Records:
Aircraft Operation | 91-8 Watts Agricultural Aviation; 2000-1 Gatewood.
Flight and Duty time | 96-4 South Aero.
Maintenance Records | 91-8 Watts Agricultural Aviation; 94-2 Woodhouse; 97-30 Emery Worldwide Airlines; 97-31 Sanford Air; 98-18 General Aviation; 2000-1 Gatewood; 2000-3 Warbelow's.
Description of maintenance | 2000-1 Gatewood.
“Yellow tags” | 91-8 Watts Agricultural Aviation.
Aircraft—Weight and Balance (see Weight and Balance)
Airmen:
Airline Transport Pilot certificates requirement in foreign aviation by Part 135 operator | 99-11 Evergreen Helicopters; 2000-12 Evergreen.
Altitude deviation | 92-49 Richardson & Shimp.
Careless or Reckless | 91-12 & 91-31 Terry & Menne; 92-8 Watkins; 92-49 Richardson & Shimp; 92-47 Cornwall; 93-17 Metcalf; 93-29 Sweeney; 96-17 Fenner.
Flight time limitations | 93-11 Merkley.
Flight Time records | 99-7 Premier Jets.
Follow ATC Instruction | 91-12 & 91-31 Terry & Menne; 92-8 Watkins; 92-49 Richardson & Shimp.
Low Flight | 92-47 Cornwall; 93-17 Metcalf.
Owner's responsibility | 96-17 Fenner; 2000-1 Gatewood.
Pilots | 91-12 & 91-31 Terry & Menne; 92-8 Watkins; 92-49 Richardson & Shimp; 93-17 Metcalf.
See and Avoid | 93-29 Sweeney.
Unqualified for Part 135 flight | 99-15 Blue Ridge.
Air Operations Area (AOA):
Air Carrier:
Responsibilities | 90-19 Continental Airlines; 91-33 Delta Air Lines; 94-1 Delta Air Lines.
Airport Operator:
Responsibilities | 90-19 Continental Airlines; 91-4 [Airport Operator]; 91-18 [Airport Operator]; 91-40 [Airport Operator]; 91-41 [Airport Operator]; 91-58 [Airport Operator]; 96-1 [Airport Operator]; 98-7 LAX.
Badge Display | 91-4 [Airport Operator]; 91-33 Delta Air Lines; 99-1 American Airlines.
Definition of | 90-19 Continental Airlines; 91-4 [Airport Operator]; 91-58 [Airport Operator].
Exclusive Areas | 90-19 Continental Airlines; 91-4 [Airport Operator]; 91-58 [Airport Operator]; 98-7 LAX.
Airport Security Program (ASP):
Compliance with | 91-4 [Airport Operator]; 91-18 [Airport Operator]; 91-40 [Airport Operator]; 91-41 [Airport Operator]; 91-58 [Airport Operator]; 94-1 Delta Air Lines; 96-1 [Airport Operator]; 97-23 Detroit Metropolitan; 98-7 LAX; Airport Operator.
Responsibilities | 90-12 Continental Airlines; 91-4 [Airport Operator]; 91-18 [Airport Operator]; 91-40 [Airport Operator]; 91-41 [Airport Operator]; 91-58 [Airport Operator]; 96-1 [Airport Operator]; 97-23 Detroit Metropolitan.
Air Traffic Control (ATC):
Error as mitigating factor | 91-12 & 91-31 Terry & Menne.
Error as exonerating factor | 91-12 & 91-31 Terry & Menne; 92-40 Wendt.
Ground Control | 91-12 Terry & Menne; 93-18 Westair Commuter.
Local Control | 91-12 Terry & Menne.
Tapes & Transcripts | 91-12 Terry & Menne; 92-49 Richardson & Shimp.
Airworthiness | 91-8 Watts Agricultural Aviation; 92-10 Flight Unlimited; 92-48 & 92-70 USAir; 94-2 Woodhouse; 95-11 Horizon; 96-3 American West Airlines; 96-18 Kilrain; 94-25 USAir; 97-8 Pacific Av. d/b/a InterIsland Helicopters; 97-9 Alphin; 97-10 Alphin; 97-11 Hampton; 97-21 Delta; 97-30 Emery Worldwide Airlines; 97-32 Florida Propeller; 98-18 General Aviation; 99-14 Alika Aviation; 2000-3 Warbelow's; 2000-13 Empire Airlines; 2000-14 Warbelow's.
Amicus Curiae Briefs | 90-25 Gabbert.
Answer:
ALJ may not extend due date for late Answer unless good cause shown | 95-28 Atlantic World Airways; 97-18 Robinson; 97-33 Rawlings; 98-4 Larry's Flying Service.
Reply to each numbered paragraph in the complaint required | 98-21 Blankson.
Timeliness of answer | 90-3 Metz; 90-15 Playter; 92-32 Barnhill; 92-47 Cornwall; 92-75 Beck; 92-76 Safety Equipment; 94-5 Grant; 94-29 Sutton; 94-30 Columna; 94-43 Perrez; 95-10 Diamond; 95-28 Atlantic World Airways; 97-18 Robinson; 97-19 Missirlian; 97-33 Rawlings; 97-38 Air St. Thomas; 98-4 Larry's Flying Service; 98-13 Air St. Thomas; 99-8 McDermott; 99-9 Lifeflite Medical Air Transport; 99-16 Dorfman.
Timeliness not at issue once hearing Held | 99-16 Dorfman.
What constitutes | 92-32 Barnhill; 92-75 Beck; 97-19 Missirlian.
Appeals (See also Filing; Timeliness; Mailing Rule):
Briefs, Generally | 89-4 Metz; 91-45 Park; 92-17 Giuffrida; 92-19 Cornwall; 92-39 Beck; 93-24 Steel City Aviation; 93-28 Strohl; 94-23 Perez; 95-13 Kilrain.
Additional Appeal Brief | 92-3 Park; 93-5 Wendt; 93-6 Westair Commuter; 93-28 Strohl; 94-4 Northwest Aircraft; 94-18 Luxemburg; 94-29 Sutton; 97-22 Sanford Air; 97-34 Continental Airlines; 97-38 Air St. Thomas; 98-18 General Aviation; 99-11 Evergreen Helicopter; 2000-7 Martinez.
Appeal dismissed as premature | 95-19 Rayner.
Appeal dismissed as moot after complaint withdrawn | 92-9 Griffin.
Appellate arguments | 92-70 USAir.
Court of Appeals, appeal to (See Federal Courts)
Good Cause for Late-Filed Brief or Notice of Appeal | 90-3 Metz; 90-27 Gabbert; 90-39 Hart; 91-10 Graham; 91-24 Esau; 91-48 Wendt; 91-50 & 92-1 Costello; 92-3 Park; 92-17 Giuffrida; 92-39 Beck; 92-41 Moore & Sabre Associates; 92-52 Beck; 92-57 Detroit Metro Wayne Co. Airport; 92-69 McCabe; 93-23 Allen; 93-27 Simmons; 93-31 Allen; 95-2 Meronek; 95-9 Woodhouse; 95-25 Conquest, 97-6 WRA Inc.; 97-7 Stalling; 97-28 Continental; 97-38 Air St. Thomas; 98-1 V. Taylor; 98-13 Air St. Thomas; 99-4 Warbelow's Air Ventures; 2000-11 Europex.
Informal Conference Conduct of, not on appeal | 99-14 Alika Aviation.
Motion to Vacate construed as a brief | 91-11 Continental Airlines.
Perfecting an Appeal, generally | 92-17 Giuffrida; 92-19 Cornwall; 92-39 Beck; 94-23 Perez; 95-13 Kilrain; 96-5 Alphin Aircraft; 98-20 Koenig.
Extension of Time for (good cause for) | 89-8 Thunderbird Accessories; 91-26 Britt Airways; 91-32 Bargen; 91-50 Costello; 93-2 & 93-3 Wendt; 93-24 Steel City Aviation; 93-32 Nunez; 98-5 Squire; 98-5 Squire; 99-3 Justice; 99-4 Warbelow's Air Ventures.
Failure to | 89-1 Gressani; 89-7 Zenkner; 90-11 Thunderbird Accessories; 90-35 P. Adams; 90-39 Hart; 91-7 Pardue; 91-10 Graham; 91-20 Bargen; 91-43, 91-44, 91-46 & 91-47 Delta Air Lines; 91-11 Alilin; 92-15 Dillman; 92-18 Bargen; 92-34 Carrell; 92-35 Bay Land Aviation; 92-36 Southwest Airlines; 92-45 O'Brien; 92-56 Montauk Caribbean Airways; 92-67 USAir; 92-68 Weintraub; 92-78 TWA; 93-7 Dunn; 93-8 Nunez; 93-20 Smith; 93-23 & 93-31 Allen; 93-34 Castle Aviation; 93-35 Steel City Aviation; 94-12 Bartusiak; 94-24 Page; 94-26 French Aircraft; 94-34 American International Airways; 94-35 American International Airways; 94-36 American International Airways; 94-4 Hanson; 95-22 & 96-5 Alphin Aircraft; 96-2 Skydiving Center; 96-13 Winslow; 97-3 [Airport Operator], 97-6 WRA, Inc.; 97-15 Houston & Johnson County; 97-35 Gordon Air Services; 97-36 Avcon; 97-37 Roush; 98-10 Rawlings; 99-2 Oxygen Systems; 9000-9 Tundra Copters; 2000-10 Johnson.
Notice of appeal construed as appeal brief | 92-39 Beck; 94-15 Columna; 95-9 Woodhouse; 95-23 Atlantic World Airways; 96-20 Missirlian; 97-2 Sanford Air; 98-5 Squire; 98-17 Blue Ridge; 98-23 Instead Balloon Services; 99-3 Justice; 99-8 McDermott; 2000-7 Martinez.
What Constitutes | 90-4 Metz; 90-27 Gabbert; 91-45 Park; 92-7 West; 92-17 Giuffrida; 92-39 Beck; 93-7 Dunn; 94-15 Columna; 94-23 Perez; 94-30 Columna; 95-9 Woodhouse; 95-23 Atlantic World Airways; 96-20 Missirlian; 97-2 Sanford Air.
Service of brief:
Fail to serve other party | 92-17 Giuffrida; 92-19 Cornwall.
Timeliness of Notice of Appeal | 90-3 Metz; 90-39 Hart; 91-50 Costello; 92-7 West; 92-69 McCabe; 93-27 Simmons; 95-2 Meronek; 95-9 Woodhouse; 95-15 Alphin Aviation; 96-14 Midtown Neon Sign Corp.; 97-7 & 97-17 Stallings; 97-28 Continental; 97-38 Air St. Thomas; 98-1 V. Taylor; 98-13 Air St. Thomas; 98-16 Blue Ridge; 98-17 Blue Ridge; 98-21 Blankson.
Withdrawal of | 89-2 Lincoln-Walker; 89-3 Sittko; 90-4 Nordrum; 90-5 Sussman; 90-6 Dabaghian; 90-7 Steele; 90-8 Jenkins; 90-9 Van Zandt; 90-13 O'Dell; 90-14 Miller; 90-28 Puleo; 90-29 Sealander; 90-30 Steidinger; 90-34 D. Adams; 90-40 & 90-41 Westair Commuter Airlines; 91-1 Nestor; 91-5 Jones; 91-6 Lowery; 91-13 Kreamer; 91-14 Swanton; 91-15 Knipe; 91-16 Lopez; 91-19 Bayer; 91-21 Britt Airways; 91-22 Omega Silicone Co.; 91-23 Continental Airlines; 91-25 Sanders; 91-27 Delta Air Lines; 91-28 Continental Airlines; 91-29 Smith; 91-34 GASPRO; 91-35 M. Graham; 91-36 Howard; 91-37 Vereen; 91-39 America West; 91-42 Pony Express; 91-49 Shields; 91-56 Mayhan; 91-57 Britt Airways; 91-59 Griffin; 91-60 Brinton; 92-2 Koller; 92-4 Delta Air Lines; 92-6 Rothgeb; 92-12 Bertetto; 92-20 Delta Air Lines; 92-21 Cronberg; 92-22, 92-23, 92-24, 92-25, 92-26 & 92-28 Delta Air Lines; 92-33 Port Authority of NY & NJ; 92-42 Jayson; 92-43 Delta Air Lines; 92-44 Owens; 92-53 Humble; 92-54 & 92-55 Northwest Airlines; 92-60 Costello; 92-61 Romerdahl; 92-62 USAir; 92-63 Schaefer; 92-64 & 92-65 Delta Air Lines; 92-66 Sabre Associates & Moore; 92-79 Delta Air Lines; 93-1 Powell & Co.; 93-4 Harrah; 93-14 Fenske; 93-15 Brown; 93-21 Delta Air Lines; 93-22 Yannotone; 93-26 Delta Air Lines; 93-33 HPH Aviation; 94-9 B&G Instruments; 94-10 Boyle; 94-11 Pan American Airways; 94-13 Boyle; 94-14 B&G Instruments; 94-16 Ford; 94-33 Trans World Airlines; 94-41 Dewey Towner; 94-42 Taylor; 95-1 Diamond Aviation; 95-3 Delta Air Lines; 95-5 Araya; 95-6 Sutton; 95-7 Empire Airlines; 95-20 USAir; 95-21 Faisca; 95-24 Delta Air Lines; 96-7 Delta Air Lines; 96-8 Empire Airlines; 96-10 USAir, 96-11 USAir, 96-12 USAir; 96-21 Houseal; 97-4 [Airport Operator]; 97-5 West Air; 97-25 Martin & Jaworski; 97-26 Delta Air Lines; 97-27 Lock Haven; 97-39 Delta Air Lines; 98-9 Continental Express; 2000-8 USA Jet Airlines.
Assault (See also Battery, and Passenger Misconduct) | 96-6 Ignatov; 97-12 Mayer; 99-16 Dorfman.
“Attempt” | 89-5 Schultz.
Attorney Conduct:
Obstreperous or Disruptive | 94-39 Kirola.
Attorney Fees (See EAJA)
Aviation Safety Reporting System | 90-39 Hart; 91-12 Terry & Menne; 92-49 Richardson & Shimp.
Baggage Matching | 98-6 Continental; 99-12 TWA.
Balloon (Hot Air) | 94-2 Woodhouse.
Bankruptcy | 91-2 Continental Airlines.
Battery (See also Assault and Passenger Misconduct | 96-6 Ignatov; 97-12 Mayer; 99-16 Dorfman.
Certificates and Authorizations:
Surrender when revoked | 92-73 Wyatt.
Civil Air Security National Airport:
Inspection Program (CASNAIP) | 91-4 [Airport Operator]; 91-18 [Airport Operator]; 91-40 [Airport Operator]; 91-41 [Airport Operator]; 91-58 [Airport Operator].
Civil Penalty Amount (See Sanction)
Closing Argument (See Final Oral Argument)
Collateral Estoppel | 91-8 Watts Agricultural Aviation.
Complaint:
Complainant Bound by | 90-10 Webb; 91-53 Koller.
No Timely Answer to (See Answer)
Partial Dismissal/Full Sanction | 94-19 Pony Express; 94-40 Polynesian Airways.
Staleness (See Stale Complaint Rule
Statute of Limitations (See Statute of Limitations)
Timeliness of complaint | 91-51 Hagwood; 93-13 Medel; 94-7 Hereth; 94-5 Grant.
Withdrawal of | 94-39 Kirola; 95-6 Sutton.
Compliance & Enforcement Program:
(FAA Order No. 2150.3A | 89-5 Schultz; 89-6 American Airlines; 91-38 Esau; 92-5 Delta Air Lines.
Compliance/Enforcement Bulletin 92-3 | 96-19 [Air Carrier].
Sanction Guidance Table | 89-5 Schultz; 90-23 Broyles; 90-33 Cato; 90-37 Northwest Airlines; 91-3 Lewis; 92-5 Delta Air Lines; 98-18 General Aviation; 2000-3 Warbelow's.
Concealment of Weapons (See Weapons Violations)
Consolidation of Cases | 90-12, 90-18 & 90-19 Continental Airlines.
Constitutionality of Regulations (See also Double Jeopardy) | 90-12 Continental Airlines; 90-18 Continental Airlines; 90-19 Continental Airlines; 90-37 Northwest Airlines; 96-1 [Airport Operator]; 96-25 USAir; 97-16 Mauna Kea; 97-34 Continental Airlines; 98-6 Continental Airlines; 98-11 TWA; 99-1 American; 99-12 TWA.
Continuance of Hearing | 90-25 Gabbert; 92-29 Haggland.
Corrective Action (See Sanction)
Counsel:
Leave to withdraw | 97-24 Gordon.
No right to assigned counsel (See Due Process)
Credibility of Witnesses:
Generally | 95-25 Conquest Helicopters; 95-26 Hereth; 97-32 Florida Propeller.
Bias | 97-9 Alphin.
Defer to ALJ determination of | 90-21 Carroll; 92-3 Park 93-17 Metcalf; 95-26 Hereth; 97-20 Werle; 97-30 Emery Worldwide Airlines; 97-32 Florida Propeller; 98-11 TWA; 98-18 General Aviation 99-6 Squire; 2000-3 Warbelow's; 2000-14 Warbelow's.
Experts (See also Witness) | 90-27 Gabbert; 93-17 Metcalf; 96-3 America West Airlines.
Impeachment | 94-4 Northwest Aircraft Rental.
Reliability of eyewitness identification | 97-20 Werle.
De facto answer | 92-32 Barnhill.
Delay in initiating action | 90-21 Carroll.
Deliberative Process Privilege | 89-6 American Airlines; 90-12, 90-18 & 90-19 Continental Airlines.
Deterrence | 89-5 Schult; 92-10 Flight Unlimited; 95-16 Mulhall; 95-17 Larry's Flying Service; 97-11 Hampton.
Discovery:
Deliberative Process Privilege | 89-6 American Airlines; 90-12, 90-18 & 90-19 Continental Airlines.
Depositions, generally | 91-54 Alaska Airlines.
Notice of deposition | 91-54 Alaska Airlines.
Failure to Produce | 90-18 & 90-19 Continental Airlines, 91-17 KDS Aviation; 93-10 Costello.
Sanction for | 91-17 KDS Aviation; 91-54 Alaska Airlines.
Regarding Unrelated Case | 92-46 Sutton-Sautter.
Double Jeopardy | 95-8 Charter Airlines; 96-26 Midtown.
Due Process:
Generally | 89-6 American Airlines; 90-12 Continental Airlines; 90-37 Northwest Airlines; 96-1 [Airport Operator]; 97-8 Pacific Av. d/b/a Inter-Island Helicopters; 99-12 TWA.
Before finding a violation | 90-27 Gabbert.
Multiple violations | 96-26 Midtown; 97-9 Alphin.
No right to assigned counsel | 97-8 Pacific Av. d/b/a Inter-Island Helicopters; 97-9 Alphin; 99-6 Squire.
Violation of | 89-6 American Airlines; 90-12 Continental Airlines; 90-37 Northwest Airlines; 96-1 [Airport Operator]; 97-8 Pacific Av. d/b/a Inter-Island Helicopter; 98-19 Martin & Jaworski.
EAJA:
Adversary Adjudication | 90-17 Wilson; 91-17 & 91-52 KDS Aviation; 94-17 TCI; 95-12 Toyota.
Amount of award | 95-27 Valley Air.
Appeal from ALJ decision | 95-9 Woodhouse.
Expert witness fees | 95-27 Valley Air.
Final disposition | 96-22 Woodhouse.
Further proceedings | 91-52 KDS Aviation.
Jurisdiction over appeal | 92-74 Wendt; 96-22 Woodhouse.
Late-filed application | 96-22 Woodhouse.
Other expenses | 93-29 Sweeney.
Postiion of agency | 95-27 Valley Air.
Prevailing party | 91-52 KDS Aviation.
Special circumstances | 95-18 Pacific Sky.
Substantial justification | 91-52 & 92-71 KDS Aviation; 93-9 Wendt; 95-18 Pacific Sky; 95-27 Valley Air; 96-15 Valley Air; 98-19 Martin & Jaworski.
Supplementation of application | 95-27 Valley Air.
Evidence (See Proof & Evidence)
Ex Parte Communications | 93-10 Costello; 95-16 Mulhall; 95-19 Rayner.
Expert Witnesses (See Witness)
Extension of Time:
By Agreement of Parties | 89-6 American Airlines; 92-41 Moore & Sabre Associates.
Dismissal by Decisionmaker | 89-7 Zenkner; 90-39 Hart.
Good Cause for | 89-8 Thunderbird Accessories.
Objection to | 89-8 Thunderbird Accessories; 93-3 Wendt.
Who may grant | 90-27 Gabbert.
Federal Courts | 92-7 West; 97-1 Midtown Neon Sign; 98-8 Carr; 99-12 TWA.
Hazardous materials case appeals | 97-1 Midtown Neon Sign; 98-8 Carr; 2000-4 Ryan International.
Federal Rules of Civil Procedure | 91-17 KDS Aviation.
Federal Rules of Evidence (See also Proof & Evidence):
Admissions | 96-25 USAir, 99-5 Africa Air; 99-14 Alika Aviation.
Evidentiary admission are rebuttable | 99-5 Africa Air.
Settlement Offers (Rule 408) | 95-16 Mulhall; 96-25 USAir; 99-5 Africa Air.
Exclusion of admissions in settlement offers | 99-5 Africa Air; 99-14 Alika Aviation.
Statements against interest | 200-3 Warbelow's.
Subsequent Remedial Measures | 96-24 Horizon; 96-25 USAir.
Final Oral Argument | 92-3 Park.
Firearms (See Weapons)
Ferry Flights | 95-8 Charter Airlines
Filing (See also Appeals; Timeliness):
Burden to prove date of filing | 97-11 Hampton Air; 98-1 V. Taylor.
Discrepancy between certificate of service and postmark | 98-16 Blue Ridge.
Service on designated representative | 98-19 Martin & Jaworski.
Flight & Duty Time:
Circumstances beyond crew's control:
Generally | 95-8 Charter Airlines.
Foreseeability | 95-8 Charter Airlines.
Late freight | 95-8 Charter Airlines.
Weather | 95-8 Charter Airlines.
Competency check flights | 96-4 South Aero.
Limitation of Duty Time | 95-8 Charter Airlines; 96-4 South Aero.
Limitation of Flight Time | 95-8 Charter Airlines.
“Other commercial flying” | 95-8 Charter Airlines.
Recordkeeping:
Individual flight time records for each Part 135 pilot | 99-7 Premier Jets.
Flights | 94-20 Conquest Helicopters.
Freedom of Information Act | 93-10 Costello.
Fuel Exhaustion | 95-26 Hereth.
Guns (See Weapons)
Ground Security Coordinator, (See also Air Carrier; Standard Security Program):
Failure to provide | 96-16 WestAir Commuter.
Hazardous Materials:
Transportation of, generally | 90-37 Northwest Airlines; 92-76 Safety Equipment; 92-77 TCI; 94-19 Pony Express; 94-28 Toyota; 94-31 Smalling; 95-12 Toyota; 95-16 Mulhall; 96-26 Midtown.
Civil Penalty, generally | 92-77 TCI; 94-28 Toyota; 94-31 Smalling; 95-16 Mulhall; 96-26 Midtown; 98-2 Carr.
Corrective Action | 92-77 TCI; 94-28 Toyota.
Culpability | 92-77 TCI; 94-28 Toyota; 94-31 Smalling.
Financial hardship | 95-16 Mulhall.
Installment plan | 95-16 Mulhall.
First-time violation | 92-77 TCI; 94-28 Toyota; 94-31 Smalling.
Gravity of violation | 92-77 TCI; 94-28 Toyota; 94-31 Smalling; 96-26 Midtown; 98-2 Carr.
Minimum penalty | 95-16 Mulhall; 98-2 Carr.
Number of violations | 95-16 Mulhall; 96-26 Midtown Neon Sign; 98-2 Carr.
Redundant violations | 95-16 Mulhall; 96-26 Midtown Neon Sign; 98-2 Carr.
Criminal Penalty | 92-77 TCI; 94-31 Smalling.
EAJA, applicability of | 94-17 TCI; 95-12 Toyota.
Individual violations | 95-16 Mulhall.
Judicial review under 49 U.S.C. 5123 | 97-1 Midtown Neon Sign; 98-8 Carr; 2000-4 Ryan International.
Knowingly | 92-77 TCI; 94-19 Pony Express; 94-31 Smalling.
Specific hazard class transported:
Combustible:
Paint | 95-16 Mulhall.
Corrosive:
Wet Battery | 94-28 Toyota Motor Sales.
Other | 92-77 TCI.
Explosive:
Fireworks | 94-31 Smalling; 98-2 Carr.
Flammable:
Paint | 96-26 Midtown Neon Sign.
Turpentine | 95-16 Mulhall.
Radioactive | 94-19 Pony Express.
Hearing:
Failure of party to attend | 98-23 Instead Balloon Services.
Informal Conference | 94-4 Northwest Aircraft Rental.
Initial Decision:
What constitutes | 92-32 Barnhill.
Interference with crewmembers (See also Passenger Misconduct; Assault) | 92-3 Part; 96-6 Ignatov; 97-12 Mayer; 98-11 TWA; 98-12 Stout.
Interlocutory Appeal | 89-6 American Airlines; 91-54 Alaska Airlines; 93-37 Airspect; 94-32 Detroit Metropolitan; 98-25 Gotbetter.
Internal FAA Policy &/or Procedures | 89-6 American Airlines; 90-12 Continental Airlines; 92-73 Wyatt.
Jurisdiction:
After initial decision | 90-20 Degenhardt; 90-33 Cato; 92-32 Barnhill; 93-28 Strohl.
After Order Assessing Civil Penalty | 94-37 Houston; 95-19 Rayner.
After withdrawal of complaint | 94-39 Kirola.
$50,000 Limit | 90-12 Continental Airlines.
EAJA cases | 92-74 Wendt; 96-22 Woodhouse.
HazMat cases | 92-76 Safety Equipment.
NTSB | 90-11 Thunderbird Accessories.
Statutory authority to regulate flights entirely outside of U.S. questioned | 99-11 Evergreen Helicopters; 2000-12 Evergreen.
Knowledge of concealed weapon (See also Weapons Violation) | 89-5 Schultz; 90-20 Degenhardt.
Laches (See Delay in initiating action)
Mailing Rule, generally | 89-7 Zenkner; 90-3 Metz; 90-11 Thunderbird Accessories; 90-39 Hart; 98-20 Koenig.
Does not extend time for filing a request for hearing | 2000-2 Ryan International.
Overnight express delivery | 89-6 American Airlines.
Maintenance (See Aircraft Maintenance):
Maintenance Instruction | 93-36 Valley Air.
Maintenance Manual | 90-11 Thunderbird Accessories; 96-25 USAir.
Air carrier maintenance manual | 96-3 America West Airlines.
Approved/accepted repairs | 96-3 America West Airlines; 2000-13 Empire Airlines.
Manufacturer's maintenance manual | 96-3 America West Airlines; 97-31 Sanford Air; 97-32 Florida Propeller; 2000-3 Warbelow's; 2000-13 Empire Airlines.
Minimum Equipment List (MEL) (See Aircraft Maintenance)
Mootness, appeal dismissed as moot | 92-9 Griffin; 94-17 TCI.
National Aviation Safety Inspection Program (NASIP) | 90-16 Rocky Mountain.
National Transportation Safety Board:
Administrator not bound by NTSB case law | 91-12 Terry & Menne; 92-49 Richardson & Shimp; 93-18 Westair Commuter.
Lack of Jurisdiction | 90-11 Thunderbird Accessories; 90-17 Wilson; 92-74 Wendt.
Notice of Hearing:
Receipt | 92-31 Eaddy.
Notice of Proposed Civil Penalty:
Initiates Action | 91-9 Continental Airlines.
Signature of agency attorney | 93-12 Langton.
Withdrawal of | 90-17 Wilson.
Operate, generally | 91-12 & 91-31 Terry & Menne; 93-18 Westair Commuter; 96-17 Fenner.
Responsibility of aircraft owner/operator for actions of pilot | 96-17 Fenner; 2000-1 Gatewood.
Responsibility of aircraft owner/operator for employee's flying unairworthy aircraft | 2000-1 Gatewood.
Oral Argument before Administrator on appeal:
Decision to hold | 92-16 Wendt.
Instructions for | 92-27 Wendt.
Order Assessing Civil Penalty:
Appeal from | 92-1 Costello; 95-19 Rayner.
Timeliness of request for hearing | 95-19 Rayner.
Withdrawal of | 89-4 Metz; 90-16 Rocky Mountain; 90-22 USAir; 95-19 Rayner; 97-7 Stalling.
Parachuting | 98-3 Fedele.
Parts Manufacturer Approval (PMA):
Failure to obtain | 93-19 Pacific Sky Supply.
Passenger List | 99-13 Falcon Air Express.
Passenger Misconduct | 92-3 Park.
Assault/Battery | 96-6 Ignatov; 97-12 Mayer; 98-11 TWA; 99-16 Dorfman.
Compliance with Fasten Seat Belt Sign | 99-16 Alika Aviation.
Interference with a crewmember | 96-6 Ignatov; 97-12 Mayer; 98-11 TWA; 98-12 Stout; 99-16 Dorfman.
Smoking | 92-37 Giuffrida; 99-6 Squire.
Hearing loss and failure to obey instructions re: not smoking | 99-6 Squire.
Stowing carry-on items | 97-12 Mayer; 99-16.
Penalty (See Sanction; Hazardous Materials):
Person | 93-18 Westair Commuter.
Prima Facie Case (See also Proof & Evidence) | 95-26 Hereth; 96-3 America West Airlines.
Proof & Evidence (See also Federal Rules of Evidence):
Admissions | 99-5 Africa Air; 2000-3 Warbelow's.
Evidentiary admission is rebuttable | 99-5 Africa Air.
Affirmative Defense | 92-13 Delta Air Lines; 92-72 Giuffrida; 98-6 Continental Airlines.
Burden of Proof | 90-26 & 90-43 Waddell; 91-3 Lewis; 91-30 Trujillo; 92-13 Delat Air Lines; 92-72 Giuffrida; 93-29 Sweeney; 97-32 Florida Propeller; 2000-3 Warbelow's.
Circumstantial Evidence | 90-12, 90-19 & 91-9 Continental Airlines; 93-29 Sweeney; 96-3 America West Airlines; 97-10 Alphin; 97-11 Hampton; 97-32 Florida Propeller; 98-6 Continental Airlines.
Credibility (See Administrative Law Judges; Credibility of Witnesses)
Criminal standard rejected | 91-12 Terry & Menne; 2000-3 Warbelow's.
Closing Argument (See also Final Oral Argument) | 94-20 Conquest Helicopters.
Extra-record material | 95-26 Hereth; 96-24 Horizon.
Hearsay | 92-72 Giuffrida; 97-30 Emery Worldwide Airlines; 98-11 TWA.
New evidence | 94-4 Northwest Aircraft Rental; 96-23 Kilrain; 99-15 Blue Ridge.
Offer of proof | 97-32 Florida Propeller.
Preponderance of evidence | 90-11 Thunderbird Accessories; 90-12 Continental Airlines; 91-12 & 91-31 Terry & Menne; 92-72 Giuffrida; 97-30 Emery Worldwide Airlines; 97-31 Sanford Air; 97-32 Florida Propeller: 98-3 Fedele; 98-6 Continental Airlines; 98-11 TWA.
Presumption that message on ATC tape is received as transmitted | 91-12 Terry & Menne; 92-49 Richardson & Shimp.
Presumption that a gun is deadly or dangerous | 90-26 Waddell; 91-30 Trujillo.
Presumption that owner give pilot permission | 96-17 Fenner.
Prima facie case | 95-26 Hereth, 96-3 America West; 98-6 Continental Airlines.
Settlement offer | 95-16 Mulhall; 96-25 USAir; 99-5 Africa Air.
Admission as part of settlement offer excluded | 99-5 Africa Air; 99-14 Alika Aviation.
Subsequent remedial measures | 96-24 Horizon; 96-25 USAir.
Substantial evidence | 92-72 Giuffrida.
Pro Se Parties:
Special Considerations | 90-11 Thunderbird Accessories; 90-3 Metz; 95-25 Conquest.
Prosecutorial Discretion | 89-6 American Airlines; 90-23 Broyles; 90-38 Continental Airlines; 91-41 [Airport Operator]; 92-46 Sutton-Sautter; 92-73 Wyatt; 95-17 Larry's Flying Service.
Administratior does not review Complainant's decision lot to bring action against anyone but respondent | 98-2 Carr.
Reconsideration:
Denied by ALJ | 89-4 & 90-3 Metz.
Granted by ALJ | 92-32 Barnhill.
Late request for | 97-14 Pacific Aviation; 98-14 Larry's Flying Service; 2000-5 Blue Ridge.
Petition based on new material | 96-23 Kilrain; 2000-14 Warbelow's.
Repetitious petitions | 96-9 [Airport Operator]; 2000-5 Blue Ridge; 2000-14 Warbelow's.
Stay of order pending | 90-31 Carroll; 90-32 Continental Airlines; 2000-14 Warbelow's.
Redundancy, enhancing safety | 97-11 Hampton.
Remand | 89-6 American Airlines; 90-16 Rocky Moutain; 90-24 Bayer; 91-51 Hagwood; 91-54 Alaska Airlines; 92-1 Costello; 92-76 Safety Equipment; 94-37 Houston; 2000-5 Blue Ridge.
Repair Station | 90-11 Thunderbird Accessories; 92-10 Flight Unlimited; 94-2 Woodhouse; 97-9 Alphin; 97-10 Alphin; 97-31 Sanford Air; 97-32 Florida Propeller; 2000-1 Gatewood.
Request for Hearing | 94-37 Houston; 95-19 Rayner.
Constructive withdrawal of | 97-7 Stalling; 98-23 Instead Balloon Services.
Timeliness of request | 93-12 Langton; 95-19 Rayner; 2000-2 Ryan International.
Untimely request for hearing will be excused for good cause | 94-27 Larsen; 93-12 Langton; 2000-2 Ryan International.
Rules of Practice (14 CFR Part 13, Subpart G):
Applicability of | 90-12, 90-18 & 90-19 Continental Airlines; 91-17 KDS Aviation.
Challenges to | 90-12, 90-18 & 90-19 Continental Airlines; 90-21 Carroll; 90-37 Northwest Airlines.
Effect of Changes in | 90-21 Carroll; 90-22 USAir; 90-38 Continental Airlines.
Initiation of Action | 91-9 Continental Airlines.
Runway incursions | 92-40 Wendt; 93-18 Westair Commuter.
Sanction:
Ability to Pay | 89-5 Schultz; 90-10 Webb; 91-3 Lewis; 91-38 Esau; 92-10 Flight Unlimited; 92-32 Barnhill; 92-37 & 92-72 Giuffrida; 92-38 Cronberg; 92-46 Sutton-Sautter; 92-51 Koblick; 93-10 Costello; 94-4 Northwest Aircraft Rental; 94-20 Conquest Helicopters; 95-16 Mulhall; 95-17 Larry's Flying Service; 97-8 Pacific Av. d/b/a Inter-Island Helicopters; 97-11 Hampton; 97-16 Mauna Kea; 98-4 Larry's Flying Service; 98-11 TWA; 99-12 TWA; 99-15 Blue Ridge; 2000-3 Warbelow's.
Agency policy:
ALJ bound by | 90-37 Northwest Airlines; 92-46 Sutton-Sautter; 96-19 [Air Carrier]; 2000-3 Warbelow's.
Changes after complaint | 97-7 & 97-17 Stallings.
Statements of (e.g., FAA Order 2150.3A, Sanction Guidance Table, memoranda pertaining to) | 90-19 Continental Airlines; 90-23 Broyles; 90-33 Cato; 90-37 Northwest Airlines; 92-46 Sutton-Sautter; 96-4 South Aero; 96-19 [Air Carrier]; 96-25 USAir.
Compliance Disposition | 97-23 Detroit Metropolitan.
Consistency with Precedent | 96-6 Ignatov; 96-26 Midtown; 97-30 Emery Worldwide Airlines; 98-12 Stout; 98-18 General Aviation.
But when precedent is based on superceded sanction policy | 96-19 [Air Carrier].
Corrective Action | 91-18 [Airport Operator]; 91-40 [Airport Operator]; 91-41 [Airport Operator]; 92-5 Delta Air Lines; 93-18 Westair Commuter; 94-28 Toyota; 96-4 South Aero; 96-19 [Air Carrier]; 97-16 Mauna Kea; 97-23 Detroit Metropolitan; 98-6 Continental Airlines; 98-22 Northwest Airlines; 99-12 TWA; 99-14 Alika Aviation.
Discovery (See Discovery)
Factors to consider | 89-5 Schultz; 90-23 Broyles; 90-37 Northwest Airlines; 91-3 Lewis; 91-18 [Airport Operator]; 91-40 [Airport Operator]; 91-41 [Airport Operator]; 92-10 Flight Unlimited; 92-46 Sutton-Sautter; 92-51 Koblock; 94-28 Toyota; 95-11 Horizon; 96-19 [Air Carrier]; 96-26 Midtown; 97-16 Mauna Kea; 98-2 Carr; 99-15 Blue Ridge; 2000-3 Warbelow's.
First-Time Offenders | 89-5 Schultz; 92-5 Delta Air Lines; 92-51 Koblick.
HazMat (See Hazardous Materials)
Inexperience | 92-10 Flight Unlimited.
Installment Payments | 95-16 Mulhall; 95-17 Larry's Flying Service.
Maintenance | 95-11 Horizon; 96-3 America West Airlines; 97-8 Pacific Av. d/b/a Inter-Island Helicopters; 97-9 Alphin; 97-10 Alphin; 97-11 Hampton; 97-30 Emery Worldwide Airlines; 99-14 Alika Aviaion; 2000-3 Warbelow's.
Maximum | 90-10 Webb; 91-53 Koller; 96-19 [Air Carrier].
Minimum (HazMat) | 95-16 Mulhall; 96-26 Midtown; 98-2 Carr.
Modified | 89-5 Schultz; 90-11 Thunderbird Accessories; 91-38 Esau; 92-10 Flight Unlimited; 92-13 Delta Air Lines; 92-32 Barnhill.
Partial Dismissal of Complaint/Full Sanction (See also Complaint) | 94-19 Pony Express; 94-40 Polynesian Airways.
Sanctions in specific cases:
Failure to comply with Security Directives | 98-6 Continental Airlines; 99-12 TWA.
Passenger/baggage matching | 98-6 Continental Airlines; 99-12 TWA.
Passenger Misconduct | 97-12 Mayer; 98-12 Stout.
Person evading screening (See also Screening) | 97-20 Werle.
Pilot Deviation | 92-8 Watkins.
Test object detection | 90-18 & 90-19 Continental Airlines; 96-19 [Air Carrier].
Unairworthy aircraft | 97-8 Pacific Av. d/b/a/ Inter-Island Helicopters; 97-9 Alphin; 98-18 General Aviation; 99-14 Alika Aviation; 2000-3 Warbelow's.
Unauthorized access | 90-19 Continental Airlines; 90-37 Northwest Airlines; 94-1 Delta Air Lines; 98-7 LAX.
Unqualified pilot | 99-15 Blue Ridge.
Weapons violations | 90-23 Broyles; 90-33 Cato; 91-3 Lewis; 91-38 Esau; 92-32 Barnhill; 92-46 Sutton-Sautter; 92-51 Koblick; 94-5 Grant; 97-7 & 97-17 Stallings.
Screening of Persons and Carry-on Items (See also Test Object Detection):
Air carrier failure to detect weapon:
Sanction | 94-44 American Airlines.
Air carrier failure to match bag with passenger | 98-6 Continental Airlines; 99-12 TWA.
Entering Sterile Areas | 90-24 Bayer; 92-58 Hoedl; 97-20 Werle; 98-20 Koenig.
Sanction for individual evading screening (See also Sanction) | 97-20 Werle; 98-20 Koenig.
Security Directive re: screening of carry-on items given to passenger by person unknown to the passenger | 2000-6 Altantic Coast Aviation.
Security (See Screening of Persons, Standard Security Program, Test Object Detection, Unauthorized Access, Weapons Violations):
Agency directives, violation of | 99-12 TWA.
Giving false information about carrying a weapon or explosive on board an aircraft | 98-24 Stevens.
Sealing of Record | 97-13 Westair Commuter; 97-28 Continental Airlines.
Separation of Functions | 90-12 Continental Airlines; 90-18 Continental Airlines; 90-19 Continental Airlines; 90-21 Carroll; 90-38 Continental Airlines; 93-13 Medel.
Service (See also Mailing Rule; Receipt):
Date of when no certificate of service | 2000-2 Ryan International.
Of NPCP | 90-22 USAir; 97-20 Werle.
Of FNPCP | 93-13 Medel.
Receipt of document sent by mail | 92-31 Eaddy; 2000-5 Blue Ridge.
Return of certified mail | 97-7 & 97-17 Stallings; 2000-5 Blue Ridge.
Valid Service | 92-18 Bargen; 98-19 Martin & Jaworski.
Settlement | 91-50 & 92-1 Costello; 95-16 Mulhall; 99-10 Azteca.
Request for hearing not withdrawn | 99-10 Azteca.
Skydiving | 98-3 Fedele.
Smoking | 92-37 Giuffrida; 94-18 Luxemburg; 99-6 Squire.
Stale Complaint Rule:
If NPCP not sent | 97-20 Werle.
Standard Security Program (SSP):
Compliance with | 90-12, 90-18 & 90-19 Continental Airlines; 91-33 Delta Air Lines; 91-55 Continental Airlines; 92-13 & 94-1 Delta Air Lines; 96-19 [Air Carrier] 98-22 Northwest Airlines; 99-1 American.
Checkpoint Security Coordinator | 98-22 Northwest Airlines.
Ground Security Coordinator | 96-16 Westair Commuter.
When an airline is required to have a security program | 2000-6 Atlantic Coast Aviation.
Statute of Limitations | 97-20 Werle.
Stay of Orders | 90-13 Carroll; 90-32 Continental Airlines.
Pending judicial review | 95-14 Charter Airlines.
Strict Liability | 89-5 Schultz; 90-27 Gabbert; 91-18 [Airport Operator]; 91-40 [Airport Operator]; 91-58 [Airport Operator]; 97-23 Detroit Metropolitan; 98-7 LAX; 2000-3 Warbelow's.
Test Object Detection | 90-12, 90-18, 90-19, 91-9 & 91-55 Continental Airlines; 92-13 Delta Air Lines; 96-19 [Air Carrier].
Proof of violation | 90-18, 90-19 & 91-9 Continental Airlines; 92-13 Delta Air Lines.
Sanction | 90-18 & 90-19 Continental Airlines; 96-19 [Air Carrier].
Timelines (See also Complaint; Filing; Mailing Rule; and Appeals):
Burden to prove date of filing | 97-11 Hampton Air; 98-1 V. Taylor.
Of response to NPCP | 90-22 USAir.
Of complaint | 91-51 Hagwood; 93-13 Medel; 94-7 Hereth.
Of initial decision | 97-13 Sanford Air.
Of NPCP | 92-73 Wyatt.
Of petition to reconsider | 2000-5 Blue Ridge.
Of reply brief | 97-11 Hampton.
Of request for hearing | 93-12 Langston; 95-19 Rayner; 2000-2 Ryan International.
Of EAJA application (See EAJA-Final disposition, EAJA-Jurisdiction) |
Unapproved Parts (See also Parts Manufacturer Approval) | 93-19 Pacific Sky Supply.
Unauthorized Access:
To aircraft | 90-12 & 90-19 Continental Airlines; 94-1 Delta Air Lines.
To Air Operations Area (AOA) | 90-37 Northwest Airlines; 91-18 [Airport Operator]; 91-40 [Airport Operator]; 91-58 [Airport Operator]; 94-1 Delta Airlines.
Visual Cues Indicating Runway, Adequacy of | 92-40 Wendt.
Weapons Violations, generally | 89-5 Schultz; 90-10 Webb; 90-20 Degenhardt; 90-23 Broyles; 90-33 Cato; 90-26 & 90-43 Waddell; 91-3 Lewis; 91-30 Trujillo; 91-38 Esua; 91-53 Koller; 92-32 Barnhill; 92-46 Sutton-Sautter; 92-51 Koblick; 92-59 Petek-Jackson; 94-5 Grant; 94-44 American Airlines.
Concealed weapon | 89-5 Schultz; 92-46 Sutton-Sautter; 92-51 Koblick.
“Deadly or Dangerous” | 90-26 & 90-43 Waddell; 91-30 Trujillo; 91-38 Esau.
First-time Offenders | 89-5 Schultz.
Intent to commit violation | 89-5 Schultz; 90-20 Degenhardt; 90-23 Broyles; 90-26 Waddell; 91-3 Lewis; 91-53 Koller.
Knowledge:
Of Weapon Concealment (See also Knowledge) | 89-5 Schultz; 90-20 Degenhardt.
Sanction (See Sanction)
Weight and Balance | 94-40 Polynesian Airways.
Passenger list | 99-13 Falcon Air Express.
Witnesses (See also Credibility):
Absence of, Failure to subpoena | 92-3 Park; 98-2 Carr.
Expert testimony:
Evaluation of | 93-17 Metcalf; 94-3 Valley Air; 94-21 Sweeney; 96-3 America West Airlines; 96-15 Valley Air; 97-9 Alphin; 97-32 Florida Propeller.
Expert witness fees (See EAJA)
Regulations (Title 14 CFR, unless otherwise noted)
1.1 (maintenance) | 94-38 Bohan; 97-11 Hampton.
1.1 (major alteration) | 99-5 Africa Air.
1.1 (major repair) | 96-3 America West Airlines.
1.1 (minor repair) | 96-3 America West Airlines.
1.1 (operate) | 91-12 & 91-31 Terry & Menne; 93-18 Westair Commuter; 96-17 Fenner.
1.1 (person) | 93-18 Westair Commuter.
1.1 (propeller) | 96-15 Valley Air.
13.16 | 90-16 Rocky Mountain; 90-22 USAir; 90-37 Northwest Airlines; 90-38 & 91-9 Continental Airlines; 91-18 [Airport Operator]; 91-51 Hagwood; 92-1 Costello; 92-46 Sutton-Sautter; 93-13 Medel; 93-28 Strohl; 94-27 Larsen; 94-37 Houston; 94-31 Smalling; 95-19 Rayner; 96-26 Midtown Neon Sign; 97-1 Midtown Neon Sign; 97-9 Alphin; 98-18 General Aviation; 2000-2 Ryan International; 2000-3 Warbelow's.
13.201 | 90-12 Continental Airlines.
13.202 | 90-6 American Airlines; 92-76 Safety Equipment.
13.203 | 90-12 Continental Airlines; 90-21 Carroll; 90-38 Continental Airlines.
13.204 |
13.205 | 90-20 Degenhardt; 91-17 KDS Aviation; 91-54 Alaska Airlines; 92-32 Barnhill; 94-32 Detroit Metropolitan; 94-39 Kirola; 95-16 Mulhall; 97-20 Werle.
13.206 |
13.207 | 94-39 Kirola.
13.208 | 90-21 Carroll; 91-51 Hagwood; 92-73 Wyatt; 92-76 Safety Equipment; 93-13 Medel; 93-28 Strohl; 94-7 Hereth; 97-20 Werle; 98-4 Larry's.
13.209 | 90-3 Metz; 90-15 Player; 91-18 [Airport Operator]; 92-32 Barnhill; 92-47 Cornwall; 92-75 Beck; 92-76 Safety Equipment; 94-8 Nunez; 94-5 Grant; 94-22 Harkins; 94-29 Sutton; 94-30 Columna; 95-10 Diamond; 95-28 Atlantic World Airways; 97-7 Stalling; 97-18 Robinson; 97-33 Rawlings; 98-21 Blankson.
13.210 | 92-19 Cornwall; 92-75 Beck; 92-76 Safety Equipment; 93-7 Dunn; 93-28 Strohl; 94-5 Grant; 94-30 Columna; 95-28 Atlantic World Airways; 96-17 Fenner; 97-11 Hampton; 97-18 Robinson; 97-38 Air St. Thomas; 98-16 Blue Ridge.
13.211 | 89-6 American Airlines; 89-7 Zenkner; 90-3 Metz; 90-11 Thunderbird Accessories; 90-39 Hart; 91-24 Esau; 92-1 Costello; 92-9 Griffin; 92-18 Bargen; 92-19 Cornwall; 92-57 Detroit Metro. Wayne County Airport; 92-74 Wendt; 92-76 Safety Equipment; 93-2 Wendt; 94-5 Grant; 94-18 Luxemburg; 94-29 Sutton; 95-12 Toyota; 95-28 Valley Air; 97-7 Stalling; 97-11 Hampton; 98-4 Larry's Flying Service; 98-19 Martin & Jaworski; 98-20 Koenig; 99-2 Oxygen Systems; 2000-2 Ryan International; 2000-5 Blue Ridge.
13.212 | 90-11 Thunderbird Accessories; 91-2 Continental Airlines; 99-2 Oxygen Systems.
13.213 |
13.214 | 91-3 Lewis.
13.215 | 93-28 Strohl; 94-39 Kirola.
13.216 |
13.217 | 91-17 KDS Aviation.
13.218 | 89-6 American Airlines; 90-11 Thunderbird Accessories; 90-39 Hart; 92-9 Griffin; 92-73 Wyatt; 93-19 Pacific Sky Supply; 94-6 Strohl; 94-27 Larsen; 94-37 Houston; 95-18 Rayner; 96-16 WestAir; 96-24 Horizon; 98-20 Koenig.
13.219 | 89-6 American Airlines; 91-2 Continental; 91-54 Alaska Airlines; 93-37 Airspect; 94-32 Detroit Metro. Wayne County Airport; 98-25 Gotbetter.
13.220 | 89-6 American Airlines; 90-20 Carroll; 91-8 Watts Agricultural Aviation; 91-17 KDS Aviation; 91-54 Alaska Airlines; 92-46 Sutton-Sautter.
13.221 | 92-29 Haggland; 92-31 Eaddy; 92-52 Cullop.
13.222 | 92-72 Giuffrida; 96-15 Valley Air.
13.223 | 91-12 & 91-31 Terry & Menne; 92-72 Giuffrida; 95-26 Hereth; 96-15 Valley Air; 97-11 Hampton; 97-31 Sanford Air; 97-32 Florida Propeller; 98-3 Fedele; 98-6 Continental Airlines; 2000-3 Warbelow's.
13.224 | 90-26 Waddell; 91-4 [Airport Operator]; 92-72 Giuffrida; 94-18 Luxemburg; 94-28 Toyota; 95-25 Conquest; 96-17 Fenner; 97-32 Florida Propeller; 98-6 Continental Airlines; 2000-3 Warbelow's.
13.225 | 97-32 Florida Propeller.
13.226 |
13.227 | 90-21 Carroll; 95-26 Hereth.
13.228 | 92-3 Park.
13.229 |
13.230 | 92-19 Cornwall; 95-26 Hereth; 96-24 Horizon.
13.231 | 92-3 Park.
13.232 | 89-5 Schultz; 90-20 Degenhardt; 92-1 Costello; 92-18 Bargen; 92-32 Barnhill; 93-28 Strohol; 94-28 Toyota; 95-12 Toyota; 95-16 Mulhall; 96-6 Ignatov; 98-18 General Aviation.
13.233 | 89-1 Gressani; 89-4 Metz; 89-5 Schultz; 89-7 Zenkner; 89-8 Thunderbird Accessories; 90-3 Metz; 90-11 Thunderbird Accessories; 90-19 Continental Airlines; 90-20 Degenhardt; 90-25 & 90-27 Gabbert; 90-35 P. Adams; 90-19 Continental Airlines; 90-39 Hart; 91-2 Continental Airlines; 91-3 Lewis; 91-7 Pardue; 91-8 Watts Agricultural Aviation; 91-10 Graham; 91-11 Continental Airlines; 91-12 Bargen; 91-24 Esau; 91-26 Britt Airways; 91-31 Terry & Menne; 91-32 Bargen; 91-43 & 91-44 Delta; 91-45 Park; 91-46 Delta; 91-47 Delta; 91-48 Wendt; 91-52 KDS Aviation; 91-53 Koller; 92-1 Costello; 92-3 Park; 92-7 West; 92-11 Alilin; 92-15 Dillman; 92-16 Wendt; 92-18 Bargen; 92-19 Cornwall; 92-27 Wendt; 92-32 Barnhill; 92-34 Carrell; 92-35 Bay Land Aviation; 92-36 Southwest Airlines; 92-39 Beck; 92-45 O'Brien; 92-52 Beck; 92-56 Montauk Caribbean Airways; 92-57 Detroit Metro. Wayne Co. Airport; 92-67 USAir; 92-69 McCabe; 92-72 Giuffrida; 92-74 Wendt; 92-78 TWA; 93-5 Wendt; 93-6 Westair Commuter; 93-7 Dunn; 93-8 Nunez; 93-27 Simmons; 93-28 Strohl; 93-31 Allen; 93-32 Nunez; 94-9 B & G Instruments; 94-10 Boyle; 94-12 Bartusiak; 94-15 Columna; 94-18 Luxemburg; 94-23 Perez; 94-24 Page; 94-26 French Aircraft; 94-28 Toyota; 95-2 Meronek; 95-9 Woodhouse; 95-13 Kilrain; 95-23 Atlantic World Airways; 95-25 Conquest; 95-26 Hereth; 96-1 [Airport Operator; 96-2 Skydiving Center; 97-1 Midtown Neon Sign; 97-2 Sanford Air; 97-7 Stalling; 97-22 Sanford Air; 97-24 Gordon Air; 97-31 Sanford Air; 97-33 Rawlings; 97-38 Air St. Thomas; 98-4 Larry's Flying Service; 98-3 Fedele; Continental Airlines 98-6; LAX 98-7; 98-10 Rawlings; 98-15 Squire; 98-18 General Aviation; 98-19 Martin & Jaworski; 98-20 Koening; 99-2 Oxygen Systems; 99-11 Evergreen Helicopters.
13.234 | 90-19 Continental Airlines; 90-31 Carroll; 90-32 & 90-38 Continental Airlines; 91-4 [Airport Operator]; 95-12 Toyota; 96-9 [Airport Operator]; 96-23 Kilrain; 2000-5 Blue Ridge.
13.235 | 90-11 Thunderbird Accessories; 90-12 Continental Airlines; 90-15 Playter; 90-17 Wilson; 92-7 West.
Part 14 | 92-74 & 93-2 Wendt; 95-18 Pacific Sky Supply.
14.01 | 91-17 & 92-71 KDS Aviation.
14.04 | 91-17, 91-52 & 92-71 KDS Aviation; 93-10 Costello; 95-27 Valley Air.
14.05 | 90-17 Wilson.
14.12 | 95-27 Valley Air.
14.20 | 91-52 KDS Aviation; 96-22 Woodhouse.
14.22 | 93-29 Sweeney.
14.23 | 98-19 Martin & Jaworski.
14.26 | 91-52 KDS Aviation; 95-27 Valley Air.
14.28 | 95-9 Woodhouse.
21.181 | 96-25 USAir.
21.303 | 93-19 Pacific Sky Supply; 95-18 Pacific Sky Supply.
25.787 | 97-30 Emery Worldwide Airlines.
25.855 | 92-37 Giuffrida; 97-30 Emery Worldwide Airlines.
39.3 | 92-10 Flight Unlimited; 94-4 Northwest Aircraft Rental.
43.3 | 92-73 Wyatt; 97-31 Sanford Air; 98-18 General Aviation; 2000-1 Gatewood.
43.5 | 96-18 Kilrain; 97-31 Sanford Air.
43.9 | 91-8 Watts Agricultural Aviation; 97-31 Sanford Air; 98-4 Larry's Flying Service.
43.13 | 90-11 Thunderbird Accessories; 94-3 Valley Air; 94-38 Bohan; 96-3 America West Airlines; 96-25 USAir; 97-9 Alphin; 97-10 Alphin; 97-30 Emery Worldwide Airlines; 97-31 Sanford Air; 97-32 Florida Propeller; 2000-13 Empire Airlines.
43.15 | 90-25 & 90-27 Gabbert; 91-8 Watts Agricultural Aviation; 94-2 Woodhouse; 96-18 Kilrain.
61.3 | 99-11 Evergreen Helicopters; 2000-12 Evergreen.
65.15 | 92-73 Wyatt.
65.81 | 2000-1 Gatewood.
65.92 | 92-73 Wyatt.
91.7 | 97-8 Pacific Av. d/b/a Inter-Island Helicopters; 97-16 Mauna Kea; 98-18 General Aviation; 99-5 Africa Air; 2000-1 Gatewood; 2000-3 Warbelow's; 2000-14 Warbelow's.
91.8 (91.11 as of 8/18/90) | 92-3 Park.
91.9 (91.13 as of 8/18/90) | 90-15 Playter; 91-12 & 91-31 Terry & Menne; 92-8 Watkins; 92-40 Wendt; 92-48 USAir; 92-49 Richardson & Shimp; 92-47 Cornwall; 92-70 USAir; 93-9 Wendt; 93-17 Metcalf; 93-18 Westair Commuter; 93-29 Sweeney; 94-29 Sutton; 95-26 Hereth; 96-17 Fenner.
91.11 | 96-6 Ignatov; 97-12 Mayer; 98-12 Stout; 99-16 Dorfman.
91.29 (91.7 as of 8/18/90) | 91-8 Watts Agricultural Aviation; 92-10 Flight Unlimited; 94-4 Northwest Aircraft Rental.
91.65 (91.111 as of 8/18/90) | 91-29 Sweeney; 94-21 Sweeney.
91.67 (91.113 as of 8/18/90) | 91-29 Sweeney.
91.71 | 97-11 Hampton.
91.75 (91.123 as of 8/18/90) | 91-12 & 91-31 Terry & Menne; 92-8 Watkins; 92-40 Wendt; 92-49 Richardson & Shimp; 93-9 Wendt.
91.79 (91.119 as of 8/18/90) | 90-15 Playter; 92-47 Cornwall; 93-17 Metcalf.
91.87 (91.129 as of 8/18/90) | 91-12 & 91-31 Terry & Menne; 92-8 Watkins.
91.103 | 95-26 Hereth.
91.111 | 96-17 Fenner.
91.113 | 96-17 Fenner.
91.151 | 95-26 Hereth.
91.173 (91.417 as of 8/18/90) | 91-8 Watts Agricultural Aviation.
91.203 | 99-5 Africa Air.
91.205 | 98-18 General Aviation.
91.213 | 97-11 Hampton.
91.403 | 97-8 Pacific Av. d/b/a Inter-Island Helicopters; 97-31 Sanford Air.
91.405 | 97-16 Mauna Kea; 98-4 Larry's Flying Service; 98-18 General Aviation; 99-5 Africa Air; 2000-1 Gatewood.
91.407 | 98-4 Larry's Flying Service; 99-5 Africa Air; 2000-1 Gatewood.
91.417 | 98-18 General Aviation.
91.517 | 98-12 Stout.
91.703 | 94-29 Sutton.
105.29 | 98-3 Fedele; 98-19 Martin & Jaworski.
107.1 | 90-19 Continental Airlines; 90-20 Degenhardt; 91-4 [Airport Operator]; 91-58 [Airport Operator]; 98-7 LAX.
107.9 | 98-7 LAX.
107.13 | 90-12 & 90-19 Continental Airlines; 91-4 [Airport Operator]; 91-18 [Airport Operator]; 91-40 [Airport Operator]; 91-41 [Airport Operator]; 91-58 [Airport Operator]; 96-1 [Airport Operator]; 97-23 Detroit Metropolitan; 98-7 LAX.
107.20 | 90-24 Bayer; 92-58 Hoedl; 97-20 Werle; 98-20 Koenig.
107.21 | 89-5 Schultz; 90-10 Webb; 90-22 Degenhardt; 90-23 Broyles; 90-26 & 90-43 Waddell; 90-33 Cato; 90-39 Hart; 91-3 Lewis; 91-10 Graham; 91-30 Trujillo; 91-38 Esau; 91-53 Koller; 92-32 Barnhill; 92-38 Cronberg; 92-46 Sutton-Sautter; 92-51 Koblick; 92-59 Petek-Jackson; 94-5 Grant; 94-31 Smalling; 97-7 Stalling.
107.25 | 94-30 Columna.
108.5 | 90-12, 90-18, 90-19, 91-2 & 91-9 Continental Airlines; 91-33 Delta Air Lines; 91-54 Alaska Airlines; 91-55 Continental Airlines; 92-13 & 94-1 Delta Air Lines; 94-44 American Airlines; 96-16 WestAir; 96-19 [Air Carrier]; 98-22 Northwest Airlines; 99-1 American; 99-12 TWA; 2000-6 Atlantic Coast Aviation.
108.7 | 90-18 & 90-19 Continental Airlines; 99-1 American.
108.9 | 98-22 Northwest Airlines.
108.10 | 96-16 WestAir.
108.11 | 90-23 Broyles; 90-26 Waddell; 91-3 Lewis; 92-46 Sutton-Sautter; 94-44 American Airlines.
108.13 | 90-12 & 90-19 Continental Airlines; 90-37 Northwest Airlines.
108.18 | 98-6 Continental Airlines; 99-12 TWA; 2000-6 Atlantic Coast Aviation.
121.133 | 90-18 Continental Airlines.
121.153 | 92-48 & 92-70 USAir; 95-11 Horizon; 96-3 American West Airlines; 96-24 Horizon; 96-25 USAir; 97-21 Delta; 97-30 Emery Worldwide Airlines.
121.221 | 97-30 Emery Worldwide Airlines.
121.317 | 92-37 Giuffrida; 94-18 Luxemburg; 99-6 Squire; 99-16 Dorfman.
121.318 | 92-37 Giuffrida.
121.363 | 2000-13 Empire Airlines.
121.367 | 90-12 Continental Airlines; 96-25 USAir.
121.379 | 2000-13 Empire Airlines.
121.571 | 92-37 Giuffrida.
121.575 | 98-11 TWA.
121.577 | 98-11 TWA.
121.589 | 97-12 Mayer.
121.628 | 95-11 Horizon; 97-21 Delta; 97-30 Emery Worldwide Airlines.
121.693 | 99-13 Falcon Air Express.
121.697 | 99-13 Falcon Air Express.
135.1 | 95-8 Charter Airlines; 95-25 Conquest.
135.3 | 99-15 Blue Ridge; 2000-5 Blue Ridge.
135.5 | 94-3 Valley Air; 94-20 Conquest Helicopters; 95-25 Conquest; 95-27 Valley Air; 96-15 Valley Air.
135.25 | 92-10 Flight Unlimited; 94-3 Valley Air; 95-27 Valley Air; 96-15 Valley Air; 2000-3 Warbelow's; 2000-14 Warbelow's.
135.63 | 94-40 Polynesian Airways; 95-17 Larry's Flying Service; 95-28 Atlantic; 96-4 South Aero; 99-7 Premier Jets.
135.87 | 90-21 Carroll.
135.95 | 95-17 Larry's Flying Service; 99-15 Blue Ridge; 2000-5 Blue Ridge.
135.179 | 97-11 Hampton; 2000-3 Warbelow's; 2000-14 Warbelow's.
135.185 | 90-40 Polynesian Airways.
135.234 | 99-15 Blue Ridge; 2000-14 Warbelow's.
135.243 | 99-11 Evergreen Helicopters; 99-15 Blue Ridge; 2000-5 Blue Ridge; 2000-12 Evergreen.
135.263 | 95-9 Charter Airlines; 96-4 South Aero.
135.293 | 95-17 Larry's Flying Service; 96-4 South Aero; 99-15 Blue Ridge; 2000-5 Blue Ridge.
135.299 | 99-15 Blue Ridge; 2000-5 Blue Ridge.
135.343 | 95-17 Larry's Flying Service; 99-15 Blue Ridge; 2000-5 Blue Ridge.
135.411 | 97-11 Hampton.
135.413 | 94-3 Valley Air; 96-15 Valley Air; 97-8 Pacific Av. d/b/a Inter-Island Helicopters; 97-16 Mauna Kea; 99-14 Alika Aviation.
135.421 | 93-36 Valley Air; 94-3 Valley Air; 96-15 Valley Air; 99-14 Alika Aviation.
135.437 | 94-3 Valley Air; 96-15 Valley Air.
137.19 | 2000-12 Evergreen.
141.101 | 98-18 General Aviation.
145.1 | 97-10 Alphin.
145.3 | 97-10 Alphin.
145.25 | 97-10 Alphin.
145.45 | 97-10 Alphin.
145.47 | 97-10 Alphin.
145.49 | 97-10 Alphin.
145.51 | 2000-1 Gatewood.
145.53 | 90-11 Thunderbird Accessories.
145.57 | 94-2 Woodhouse; 97-9 Alphin; 97-32 Florida Propeller.
145.61 | 90-11 Thunderbird Accessories.
191 | 90-12 & 90-19 Continental Airlines; 90-37 Northwest Airlines; 98-6 Continental Airlines; 99-12 TWA.
298.1 | 92-10 Flight Unlimited.
302.8 | 90-22 USAir.
49 CFR
1.47 | 92-76 Safety Equipment.
171 et seq. | 95-10 Diamond.
171.2 | 92-77 TCI; 94-28 Toyota; 94-31 Smalling; 95-16 Mulhall; 96-26 Midtown; 98-2 Carr
171.8 | 92-77 TCI.
172.101 | 92-77 TCI; 94-28 Toyota; 94-31 Smalling; 96-26 Midtown.
172.200 | 92-77 TCI; 94-28 Toyota; 95-16 Mulhall; 96-26 Midtown; 98-2 Carr.
172.203 | 94-28 Toyota.
172.204 | 92-77 TCI; 94-28 Toyota; 94-31 Smalling; 95-16 Mulhall; 98­2 Carr.
172.300 | 94-31 Smalling; 95-16 Mulhall; 96-26 Midtown; 98-2 Carr.
172.301 | 94-31 Smalling; 95-16 Mulhall; 98-2 Carr.
172.304 | 92-77 TCI; 94-321 Smalling; 95-16 Mulhall; 98-2 Carr.
172.400 | 92-77 TCI; 94-28 Toyota; 94-31 Smalling; 95-16 Mulhall; 98-2 Carr.
172.402 | 94-28 Toyota.
172.406 | 92-77 TCI.
173.1 | 92-77 TCI; 94-28 Toyota; 94-31 Smalling; 95-16 Mulhall; 98-2 Carr.
173.3 | 94-28 Toyota; 94-31 Smalling; 98-2 Carr.
173.6 | 94-28 Toyota.
173.22(a) | 94-28 Toyota; 94-31 Smalling; 98-2 Carr.
173.24 | 94-28 Toyota; 95-16 Mulhall.
173.25 | 94-28 Toyota.
173.27 | 92-77 TCI.
173.62 | 98-2 Carr.
173.115 | 92-77 TCI.
173.240 | 92-77 TCI.
173.243 | 94-28 Toyota.
173.260 | 94-28 Toyota.
173.266 | 94-28 Toyota; 94-31 Smalling.
175.25 | 94-31 Smalling.
191.5 | 97-13 Westair Commuter.
191.7 | 97-13 Westair Communter.
821.30 | 92-73 Wyatt.
821.33 | 90-21 Carroll.
Statutes
5 U.S.C.:
504 | 90-17 Wilson; 91-17 & 92-71 KDS Aviation; 92-74, 93-2 & 93-9 Wendt; 93-29 Sweeney; 94-17 TCI; 95-27 Valley Air; 96-22 Woodhouse; 98-19 Martin & Jaworski.
552 | 90-12, 90-18 & 90-19 Continental Airlines: 93-10 Costello.
554 | 90-18 Continental Airlines; 90-21 Carroll; 95-12 Toyota.
556 | 90-21 Carroll; 91-54 Alaska Airlines.
557 | 90-20 Degenhardt; 90-21 Carroll; 90-37 Northwest Airlines; 94-28 Toyota.
705 | 95-14 Charter Airlines.
5332 | 95-27 Valley Air.
11 U.S.C.:
362 | 91-2 Continental Airlines.
28 U.S.C.:
2412 | 93-10 Costello; 96-22 Woodhouse.
2462 | 90-21 Carroll.
49 U.S.C.:
5123 | 95-16 Mulhall; 96-26 & 97-1 Midtown Neon Sign; 98-2 Carr.
40102 | 96-17 Fenner.
41706 | 99-6 Squire.
44701 | 96-6 Ignatov; 96-17 Fenner; 99-12 TWA; 2000-3 Warbelow's.
44704 | 96-3 America West Airlines; 96-15 Valley Air.
46110 | 96-22 Woodhouse; 97-1 Midtown Neon Sign.
46301 | 97-1 Midtown Neon Sign; 97-16 Mauna Kea; 97-20 Werle; 99-15 Blue Ridge; 2000-3 Warbelow's.
46302 | 98-24 Stevens.
46303 | 97-7 Stalling.
49 U.S.C. App.:
1301 (31) (operate) | 93-18 Westair Commuter.
(32) (person) | 93-18 Westair Commuter.
1356 | 90-18 & 90-19, 91-2 Continental Airlines.
1357 | 90-18, 90-19 & 91-2 Continental Airlines; 91-41 [Airport Operator]; 91-58 [Airport Operator].
1421 | 92-10 Flight Unlimited; 92-48 USAir; 92-70 USAir; 93-9 Wendt.
1429 | 92-73 Wyatt.
1471 | 89-5 Schultz; 90-10 Webb; 90-20 Degenhardt; 90-12, 90-18 & 90-19 Continental Airlines; 90-23 Broyles; 90-26 & 90-43 Waddlee; 90-33 Cato; 90-37 Northwest Airlines; 90-39 Hart; 91-2 Continental Airlines: 91-3 Lewis; 91-18 [Airport Operator]; 91-53 Koller; 92-5 Delta Air Lines; 92-10 Flight Unlimited; 92-46 Sutton-Sautter; 92-51 Koblick; 92-74 Wendt; 92-76 Safety Equipment; 94-20 Conquest Helicopters; 94-40 Polynesian Airways; 96-6 Ignatov; 97-7 Stalling.
1472 | 96-6 Ignatov.
1475 | 90-20 Degenhardt; 90-12 Continental Airlines; 90-18, 90-19 & 91-1 Continental Airlines; 91-3 Lewis; 91-18 [Airport Operator]; 94-40 Polynesian Airways.
1486 | 90-21 Carroll; 96-22 Woodhouse.
1809 | 92-77 TCI; 94-19 Pony Express; 94-28 Toyota; 94-31 Smalling; 95-12 Toyota.

Civil Penalty Actions—Orders Issued By the Administrator

Digests

(Current as of June 30, 2000)

The digests of the Administrator's final decisions and orders are arranged by order number, and briefly summarize key points of the decision. The following compilation of digests includes all final decisions and orders issued by the Administrator from April 1, 1999, to June 30, 1999. The FAA will publish non-cumulative supplements to this compilation on a quarterly basis (e.g., April, July, October, and January of each year).

These digests do not constitute legal authority, and should not be cited or relied upon as such. The digests are not intended to serve as a substitute for proper legal research. Parties, attorneys, and other interested persons should always consult the full text of the Administrator's decisions before citing them in any context.

In the Matter of USA Jet Airlines, Inc.

Order No. 2008-8 (5/9/2000)

Appeal Dismissed. USA Jet Airlines withdrew its appeal; therefore, its appeal is dismissed.

In the Matter of Tundra Copters, Inc.

Order No. 2000-9 (5/11/2000)

Appeal Dismissed. Tundra Copters failed to perfect its appeal by filing an appeal brief. Therefore, its appeal is dismissed.

In the Matter of Johnny Johnson

Order No. 2000-10 (5/11/200)

Appeal Dismissed. Mr. Johnson failed to perfect his appeal by filing an appeal brief; therefore, his appeal is dismissed.

In the Matter of Europex Inc.

Order No. 2000-11 (5/11/2000)

Appeal Dismissed. Europex has provided no explanation for its late filing of its notice of appeal; therefore, its appeal is dismissed.

In the Matter of Evergreen Helicopters of Alaska, Inc.

Order No. 2000-12 (6/8/2000)

Dismissal affirmed. Under a contract with the United Nations, Evergreen transported passengers on a U.S.-registered aircraft as part of a peacekeeping mission, using Angolan pilots on 19 flights that took place entirely inside Angola. The pilots held only Angolan airline transport pilot certificates; they did not hold U.S. airline transport pilot certificates. The Administrator rejected Complainant's argument that Evergreen violated 14 CFR 135.234(a) by using pilots who lacked U.S airline transport pilot certificates. Regardless of what the drafters intended, the regulation on its face does not require that a pilot-in-command hold a U.S.-issued certificate. Moreover, 14 CFR 61.3 expressly permits the use of a certificate by the country in which the aircraft is operated. This plain meaning interpretation of the regulations is consistent with a prior written interpretation issued by the agency.

In the Matter of Empire Airlines, Inc.

Order No. 2000-13 (6/8/2000)

Failure to Use Approved Data when making a Major Repair. Conair Aerospace repaired the left engine mount of one of Empire Airlines' Fairchild F-27F aircraft using sleeve repair data set forth in Advisory Circular (AC) 43.13-1A. Neither the Fairchild F-27 overhaul nor structural repair manual provide for sleeve repairs. Instead, the Fairchild overhaul and structural repair manuals provide for repair of non-negligible engine mount corrosion by a patch repair, insertion or replacement, and prohibit patch repairs if the damage is in the middle third of the tube. In this case, the corrosion extended into the middle third of the tube.

Under Section 121.379, a certificate holder may approve an aircraft for return to service after maintenance performed by another person but major repairs or major alterations must be done in accordance with technical data approved by the Administrator. It was undisputed that the left engine mount repair constituted a major repair, that Empire was obligated to use approved data, and that the Fairchild F-27 series overhaul and structural repair manuals contained approved data for a major repair of that aircraft. The sleeve repair was not included in either of these manuals as approved for the repair of the Fairchild F-27F's engine mount.

AC-43.13-1A is not normally considered to be approved data for a major repair, but it may be used as a basis for approval. There was no evidence that Empire or Conair had sought the approval of a DER for a sleeve repair of the left engine mount.

A sleeve repair was approved for an engine mount of another model aircraft, the Fairchild FH-227. The fact that a sleeve repair may be approved data for the repair of one model aircraft (i.e., the Fairchild FH-227) does not mean necessarily that a sleeve repair is approved for the same type of damage to another similar aircraft (i.e., the Fairchild F-27F). There may be subtle differences that would make a sleeve repair appropriate for the FH-227 and not for the F-27F. Aviation safety demands that maintenance personnel not assume that approved data for the repair of one specific aircraft can be used as approved data for a major repair on a different aircraft.

Empire argued that it was not precluded from using a sleeve repair because the manuals did not specifically prohibit the use of sleeve repairs. The Administrator held that it is unreasonable to expect the manufacturer to have listed all of the repairs that would not be appropriate for any given damage, and hence, the manufacturer's silence cannot be regarded as tacit approval of a repair.

The Administrator rejected Empire's argument that it was entitled to rely on the services performed by Conair. Empire's director of quality assurance and its customer coordinator were at the Conair facility when the repair was accomplished, and its customer coordinator observed the damage and the repair. The airworthiness release was signed by a Conair employee acting on Empire's behalf.

An air carrier cannot delegate away its primary responsibility for the airworthiness of its aircraft. While there may be certain limited circumstances in which an air carrier might not be held responsible for maintenance and inspections performed by a contractor or vendor, no such reasons exist in this case.

The Administrator denied Empire's appeal and affirmed the initial decision assessing a $5,000 civil penalty.

In the Matter of Warbelow's Air Ventures, Inc.

Order No. 2000-14 (6/8/2000)

Reconsideration Denied. In a timely petition to reconsider FAA Order No. 2000-3, which assessed a $6,500 civil penalty, Warbelow's renews two previous arguments. First, Warbelow's again challenges the credibility of its former Director of Maintenance, who testified that he failed to ensure that the screws on several fuel pumps were torques to the proper pressure. Second, Warbelow's again argues that the pumps must have been torques to the proper pressure because they did not leak in service. Neither argument is new; both were decided by the law judge and the Administrator. The Rules of Practice provide that the Administrator may summarily dismiss repetitious petitions to reconsider.

The only new argument in Warbelow's petition is its challenge to the factual accuracy of the following statement in FAA Order 2000-3: “Warbelow's demoted and fired [the Director of Maintenance] after he admitted to the FAA inspectors that he had been using an improper method to modify the fuel pumps.” Warbelow's is correct that it actually fired the Director of Maintenance before he indicated at the hearing that he failed to use a torque wrench to ensure the proper pressure on the fuel pump screws. This factual error, however does not affected the outcome of this case. A law judge's credibility determinations are entitled to deference on appeal. The law judge was well aware of the Director of Maintenance's possible motives to misrepresent how he reassembled the fuel pumps, and yet the law judge specifically stated in his initial decision that he believed his testimony. Warbelow's has failed to provide sufficient grounds to overturn the law judge's credibility determinations, which were based on his personal observations of the witnesses.

Commercial Reporting Services of the Administrator's Civil Penalty Decisions and Orders

1. Commercial Publications: The Administrator's decisions and orders in civil penalty cases are available in the following commercial publications:

Civil Penalty Cases Digest Service, published by Hawkins Publishing Company, Inc., P.O. Box 480, Mayo, MD, 21106, (410) 798-1677;

Federal Aviation Decisions, Clark Boardman Callaghan, a subsidiary of West Information Publishing Company, 50 Broad Street East, Rochester, NY 14694, 1-800-221-9428.

2. CD-ROM. The Administrator's orders and decisions are available on CD-ROM through Aeroflight Publications, P.O. Box 854, 433 Main Street, Gruver, TX 79040, (806) 733-2483.

3. On-Line Services. The Administrator's decisions and orders in civil penalty cases are available through the following on-line services:

• Westlaw (the Database ID is FTRAN-FAA)

• LEXIS [Transportation (TRANS) Library, FAA file.]

• Compuserve

• FedWorld

Docket

The FAA Hearing Docket is located at FAA Headquarters, 800 Independence Avenue, SW, Room 926A, Washington, DC, 20591, (tel. No. 202-267-3641). The clerk of the FAA Hearing Docket is Ms. Stephanie McClain. All documents that are required to be filed in civil penalty proceedings must be filed with the FAA Hearing Docket Clerk at the FAA Hearing Docket. (See 14 CFR 13.210.) Materials contained in the docket of any case not containing sensitive security information (protected by 14 CFR Part 191) may be viewed at the FAA Hearing Docket.

In addition, materials filed in the FAA Hearing Docket in non-security cases in which the complaints were filed on or after December 1, 1997, are available for inspection at the Department of Transportation Docket, located at 400 7th Street, SW, Suite PL-401, Washington, DC 20590, (tel. no. 202-366-9329). While the originals are retained in the FAA Hearing Docket, the DOT Docket scan copies of documents in non-security cases in which the complaint was filed after December 1, 1997, into their computer database. Individuals who have access to the Internet can view the materials in these dockets using the following Internet address: http://dms.dot.gov.

FAA Offices

The Administrator's decisions and orders, indexes, and digests are available for public inspection and copying at the following location in FAA headquarters:

FAA Hearing Docket, Federal Aviation Administration, 800 Independence Avenue, SW., Room 926A, Washington, DC 20591; (202) 267-3641.

These materials are also available at all FAA regional and center legal offices at the following locations:

Office of the Regional Counsel for the Aeronautical Center (AMC-7), Mike Monroney Aeronautical Center, 6500 South MacArthur Blvd., Oklahoma City, OK 73169; (405) 954-3296.

Office of the Regional Counsel for the Alaskan Region (AAL-7), Alaskan Region Headquarters, 222 West 7th Avenue, Anchorage, AL 99513; (907) 271-5269.

Office of the Regional Counsel for the Central Region (ACE-7), Central Region Headquarters, 601 East 12th Street, Federal Building, Kansas City, MO 64106; (816) 426-5446.

Office of the Regional Counsel for the Eastern Region (AEA-7), 1 Aviation Plaza, 159-30 Rockaway Blvd., Springfield Gardens, NY 11434; (718) 553-3285.

Office of the Regional Counsel for the Great Lakes Region (AGL-7), Great Lakes Region Headquarters, O'Hare Lake Office Center, 2300 East Devon Avenue, Suite 419, Des Plaines, IL 60018; (847) 294-7085.

Office of the Regional Counsel for the New England Region (ANE-7), New England Region Headquarters, 12 New England Executive Park, Room 401, Burlington, MA 01803; (781) 238-7040.

Office of the Regional Counsel for the Northwest Mountain Region (ANM-7), Northwest Mountain Region Headquarters, 1601 Lind Avenue, SW, Renton, WA 98055; (425) 227-2007.

Office of the Regional Counsel for the Southern Region (ASO-7), Southern Region Headquarters, 1701 Columbia Avenue, College Park, GA 30337; (404) 305-5200.

Office of the Regional Counsel for the Southwest Region (ASW-7), Southwest Region Headquarters, 2601 Meacham Blvd., Fort Worth, TX 76137; (817) 222-5064.

Office of the Regional Counsel for the Technical Center (ACT-7), William J. Hughes Technical Center, Atlantic City International Airport, Atlantic City, NJ 08405; (609) 485-7088.

Office of the Regional Counsel for the Western-Pacific Region (AWP-7), Western-Pacific Region Headquarters, 15000 Aviation Boulevard, Hawthorne, CA 90261; (310) 725-7100.

Issued in Washington, DC on July 25th, 2000.
James S. Dillman,
Assistant Chief Counsel for Litigation.

[FR Doc. 00-19536 Filed 8-1-00; 8:45 am]

BILLING CODE 4910-13-M